DEPARTMENT OF THE INTERIOR

Bureau of Land Management

[14X LLIDB00100 LF1000000.HT0000 LXSS020D0000 4500060036]

Gateway West Project Subcommittee of the Resource Advisory Council to the Boise District; Public Meeting

AGENCY: Bureau of Land Management, U.S. Department of the Interior.

ACTION: Notice of Public Meeting.

SUMMARY: In accordance with the Federal Land Policy and Management Act (FLPMA) and the Federal Advisory Committee Act of 1972 (FACA), the U.S. Department of the Interior, Bureau of Land Management (BLM) Gateway West Project Subcommittee of the Boise District Resource Advisory Council (RAC), will hold meetings as indicated below.

DATES: The meetings will be held on December 5, 2013, December 17, 2013, January 7, 2014, and January 16, 2014 at the Boise District Office located at 3948 Development Avenue, Boise, ID 83705, beginning at 9:00 a.m. and adjourning at 3:00 p.m. Members of the public are invited to attend. A public comment period will be held.

FOR FURTHER INFORMATION CONTACT: Marsha Buchanan, Supervisory Administrative Specialist and RAC Coordinator, BLM Boise District, 3948 Development Ave., Boise, ID 83705, Telephone (208) 384-3364.

SUPPLEMENTARY INFORMATION: The Gateway West Project Subcommittee advises the Boise District Resource Advisory Council on matters of planning and management of the Gateway West Project (segments 8 and 9). The Boise District Resource Advisory Council advises the Secretary of the Interior, through the BLM, on a variety of planning and management issues associated with public land management in southwestern Idaho. The subcommittee will be discussing proposed routes of the Gateway West transmission line segments 8 and 9. Agenda items and location may change due to changing circumstances. The public may present written or oral comments to members of the Subcommittee. Individuals who plan to attend and need special assistance should contact the BLM Coordinator as provided above. Persons who use a telecommunications device for the deaf (TDD) may call the Federal Information Relay Service (FIRS) at 1-800-877-8339 to contact the above individual during normal business hours. The FIRS is available 24 hours a day, 7 days a week, to leave a message or question with the above individual. You will receive a reply during normal business hours.

James M. Fincher,
District Manager.

[FR Doc. 2013-28459 Filed 11-26-13; 8:45 am]

BILLING CODE 4310-GG-P